DEPARTMENT OF ENERGY

Federal Energy Regulatory Commission

[Docket No. CP03-33-002]

Wyckoff Gas Storage Company, LLC; Notice of Intent To Prepare an Environmental Assessment for the Proposed Amended Wyckoff Gas Storage Project and Request for Comments on Environmental Issues

January 10, 2006.

The staff of the Federal Energy Regulatory Commission (FERC or Commission) will prepare an environmental assessment (EA) that will discuss the environmental impacts of the Amended Wyckoff Gas Storage Project involving construction and operation of facilities by Wyckoff Gas Storage Company, LLC (Wyckoff) in Steuben County, New York.¹ The FERC Staff issued a notice of intent to prepare an EA on the original Wyckoff Gas Storage Project on February 10, 2003. The EA was issued for public comment on August 26, 2003. The certificate order was issued on October 6, 2003.

¹ Wyckoff's application was filed with the Commission under Section 7 of the Natural Gas Act and Part 157 of the Commission's regulations.

The amended project requests authorization to: (1) Relocate certain of the approved facilities at its certificated storage field; (2) downsize certain of the approved facilities; (3) permit phasing of the construction of certain of the approved facilities; and (4) confirm the previously approved maximum reservoir pressure for the field. This EA will be used by the Commission in its decision-making process to determine whether the amended project is in the public convenience and necessity.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Wyckoff provided to landowners. This fact sheet addresses a number of typically asked questions, including the use of eminent domain and how to participate in the Commission's proceedings. It is available for viewing on the FERC Internet website (www.ferc.gov).

Summary of the Proposed Project

Wyckoff's current authorization is to construct and operate a natural gas storage facility in two nearly depleted reservoirs in Steuben County, New York, capable of storing up to 6 billion cubic feet of natural gas (CP03-33-000). Wyckoff is asking for authorization to:

1. Relocate the compressor station about 900 feet to the southern end of the Wyckoff parcel.

2. Construct 1.2 miles of 6-inch-diameter lateral called the Chase Lateral; 0.5 mile of 6-inch-diameter lateral called the Banks Lateral; and 0.7 mile 8-inch-diameter lateral called the Banks/Cornell Lateral.

3. Install two 2,370 horsepower (hp) units for a total of 4,740 hp and one dehydration unit, instead of two 4,735 hp compressor units and two dehydration units. Wyckoff intends to install the remaining 4,735 hp of approved compression and the additional dehydration unit within a few years.

4. Defer the construction of the 7.7-mile southern pipeline to Dominion Transmission, Inc. (Dominion) Interconnect for three years. Wyckoff would assume ownership of National Fuel Gas Supply Corporation's (National Fuel) Line Z-67 being abandoned by National Fuel, and would continue Line Z-67 in operation for transporting gas between the storage field and National Fuel's system.

5. Directionally drill six new injection/withdrawal wells rather than vertically drilling each well.

6. Reduce the diameter of the 3.6-mile northern pipeline, the 0.07 mile of pipeline interconnection with Tennessee Gas Pipe Line Company, and the 0.15 mile of pipeline interconnection with Columbia Gas Transmission Corporation from 20-inch-diameter to 16-inch-diameter.

7. Phase facilities: Phase I would include 3 existing wells to be converted to injection/withdrawal wells, the six new injection/withdrawal wells and the observation wells, the associated lateral piping, the initial 4,740 hp of compression, the single dehydration unit and the 3.6-mile northern 16 inch-diameter pipeline.

8. Phase II would consist of the additional 4,735 hp compression, the additional dehydration unit, and the southern pipeline consisting of 7.7 miles of 20-inch-diameter southern pipeline to the point of interconnection with pipeline facilities operated by Dominion.

Wyckoff would also like confirmation that the authorized maximum reservoir pressure of 1,790 pounds per square inch is the maximum authorized wellhead pressure for the Wyckoff facility as stated in the Commission's October 6, 2003 Order.

There are no nonjurisdictional facilities identified for the project.

The location of the project facilities is shown in appendix 1.²

² The appendices referenced in this notice are not being printed in the Federal Register. Copies of all appendices, other than Appendix 1 (maps), are available on the Commission's website at the “eLibrary” link or from the Commission's Public Reference Room, 888 First Street, NE., Washington, DC 20426, or call (202) 502-8371. For instructions on connecting to eLibrary refer to the last page of this notice. Copies of the appendices were sent to all those receiving this notice in the mail.

Land Requirements for Construction

Construction affecting the amended facilities that include the well laterals, injection withdrawal wells, and compressor station would require about 21.1 acres of land. Following construction, about 13.6 acres would be maintained as new permanent right-of-way and aboveground facility sites. The remaining 7.5 acres of land would be restored and allowed to revert to its former use.

The EA Process

The National Environmental Policy Act (NEPA) requires the Commission to take into account the environmental impacts that could result from an action whenever it considers the issuance of a Certificate of Public Convenience and Necessity. NEPA also requires us to discover and address concerns the public may have about proposals. This process is referred to as “scoping.” The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

In the EA we ³ will discuss impacts that could occur as a result of the construction and operation of the proposed project under these general headings:

³ “We”, “us”, and “our” refer to the environmental staff of the Office of Energy Projects (OEP).

• Soils

• Land use

• Water resources, fisheries, and wetlands

• Cultural resources

• Vegetation and wildlife

• Air quality and noise

• Endangered and threatened species

We will not discuss impacts to the following resource areas since they are not changed from the original application or would not be affected by the proposed facilities.

• Geology

• Hazardous waste

• Public safety

We will also evaluate possible alternatives to the proposed project or portions of the project, and make recommendations on how to lessen or avoid impacts on the various resource areas.

Our independent analysis of the issues will be in the EA. Depending on the comments received during the scoping process, the EA may be published and mailed to federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by Wyckoff. This preliminary list of issues may be changed based on your comments and our analysis.

• The compressor station would be moved about 900 feet south of the original location. Two nearby residences and one church would be impacted by noise from the new compressor station (the same impacted by the original project).

• About 1.7 miles of new 6-inch-diameter lateral pipeline and about 0.6 mile of 8-inch-diameter pipeline would be constructed.

• Eight intermittent streams would be crossed by the new laterals.

• Seven wetlands would be affected by the amended lateral pipeline changes affecting about 0.7 acre.

• Minor route changes have been proposed for the northern pipeline route between about milepost (MP) 1.19 and MP 1.58 and along the southern pipeline route.

• Endangered species may be affected by the project's modifications.

• The land use impacts would be changed by the amended facilities.

• New York Department of Agriculture and Markets has commented that topsoil stripping and stockpiling problems in early spring through the spring thaw would destroy the topsoil and hamper effective sediment and runoff controls.

Public Participation

You can make a difference by providing us with your specific comments or concerns about the project. By becoming a commentor, your concerns will be addressed in the EA and considered by the Commission. You should focus on the potential environmental effects of the proposal, alternatives to the proposal (including alternative locations/routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 2.

• Reference Docket No. CP03-33-002.

• Mail your comments so that they will be received in Washington, DC on or before February 9, 2006.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created on-line.

If you do not want to send comments at this time but still want to remain on our mailing list, please return the Information Request (Appendix 3). If you do not return the Information Request, you will be taken off the mailing list.

Becoming an Intervenor

In addition to involvement in the EA scoping process, you may want to become an official party to the proceeding, or “intervenor.” To become an intervenor you must file a motion to intervene according to Rule 214 of the Commission's Rules of Practice and Procedure (18 CFR 385.214). Intervenors have the right to seek rehearing of the Commission's decision. Motions to Intervene should be electronically submitted using the Commission's eFiling system at http://www.ferc.gov. Persons without Internet access should send an original and 14 copies of their motion to the Secretary of the Commission at the address indicated previously. Persons filing Motions to Intervene on or before the comment deadline indicated above must send a copy of the motion to the Applicant. All filings, including late interventions, submitted after the comment deadline must be served on the Applicant and all other intervenors identified on the Commission's service list for this proceeding. Persons on the service list with e-mail addresses may be served electronically; others must be served a hard copy of the filing.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities. By this notice we are also asking governmental agencies, especially those in Appendix 2, to express their interest in becoming cooperating agencies for the preparation of the EA.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to www.ferc.gov/esubscribenow.htm.

Finally, public meetings or site visits will be posted on the Commission's calendar located at http://www.ferc.gov/EventCalendar/EventsList.aspx along with other related information.

Magalie R. Salas,
Secretary.

[FR Doc. E6-495 Filed 1-18-06; 8:45 am]

BILLING CODE 6717-01-P